NUCLEAR REGULATORY COMMISSION

Sunshine Act Meetings

AGENCY HOLDING THE MEETING: Nuclear Regulatory Commission.

DATE: Weeks of June 12, 19, 26, July 3, 10, and 17, 2000.

PLACE: Commissioner's Conference Room, 11555 Rockville Pike, Rockville, Maryland.

STATUS: Public and closed.

MATTERS TO BE CONSIDERED:

Week of June 12

Tuesday, June 13, 2000

9:25 a.m.

Affirmation Session (Public Meeting)

a: Final Rule—Clarification of Regulations to Explicitly Limit Which Types of Applications Must Include Antitrust Information

9:30 a.m.

Meeting with Organization of Agreement States (OAS) and Conference of Radiation Control Program Directors (CRCPD) (Public Meeting) (Contact: Paul Lohaus, 301-415-3340)

1:00 p.m.

Meeting with Korean Peninsula Energy Development Organization (KEDO) and State Department (Public Meeting) (Contact: Donna Chaney, 301-415-2644)

Week of June 19—Tentative

Tuesday, June 20, 2000

9:25 a.m.

Affirmation Session (Public Meeting) (If needed)

9:30 a.m.

Briefing on Final Rule—Part 70—Regulating Fuel Cycle Facilities (Public Meeting) (Contact: Theodore Sherr, 301-415-7218)

1:30 p.m.

Briefing on Risk-Informed Part 50, Option 3 (Public Meeting) (Contact: Mary Drouin, 301-415-6675)

Wednesday, June 21, 2000

10:30 a.m.

All Employees Meeting (Public Meeting) (“The Green” Plaza Area)

1:30 p.m.

All Employees Meeting (Public Meeting) (“The Green” Plaza Area)

Week of June 26—Tentative

There are no meetings scheduled for the Week of June 26.

Week of July 3—Tentative

There are no meetings scheduled for the Week of July 3.

Week of July 10—Tentative

Tuesday, July 11

9:25 a.m.

Afirmation Session (Public Meeting) (If necessary.)

Week of July 17—Tentative

There are no meetings scheduled for the Week of July 17.

*The schedule for Commission meetings is subject to change on short notice. To verify the status of meetings call (recording)—(301) 415-1292.

CONTACT PERSON FOR MORE INFORMATION: Bill Hill (301) 415-1661.

The NRC Commission Meeting Schedule can be found on the Internet at: http://www.nrc.gov/SECY/smj/schedule.htm

This notice is distributed by mail to several hundred subscribers; if you no longer wish to receive it, or would like to be added to it, please contact the Office of the Secretary, Attn: Operations Branch, Washington, D.C. 20555 (301-415-1661). In addition, distribution of this meeting notice over the Internet system is available. if you are interested in receiving this Commission meeting schedule electronically, please send an electronic message to wmh@nrc.gov or dkw@nrc.gov.

Dated: June 9, 2000.
William M. Hill, Jr.,
SECY Tracking Officer, Office of the Secretary.

[FR Doc. 00-15159 Filed 6-12-00; 1:31 pm]

BILLING CODE 7590-01-M